DEPARTMENT OF COMMERCE

International Trade Administration

[A-421-807]

Certain Hot-Rolled Carbon Steel Flat Products from the Netherlands; Extension of Time Limits for Preliminary and Final Results of Full Five-Year (“Sunset”) Review of Antidumping Duty Order

AGENCY: Import Administration, International Trade Administration, Department of Commerce.

EFFECTIVE DATE: November 24, 2006.

FOR FURTHER INFORMATION CONTACT: Steve Bezirganian or Robert James, AD/CVD Operations, Office 7, Import Administration, International Trade Administration, U.S. Department of Commerce, 14th Street & Constitution Avenue, NW., Washington, DC 20230; telephone: (202) 482-1131 or (202) 482-0649, respectively.

Background

On August 1, 2006, the Department of Commerce (“the Department”) published in the Federal Register the notice of initiation of its sunset review of the antidumping duty order on certain hot-rolled carbon steel flat products from the Netherlands. See Initiation of Five-Year (“Sunset”) Reviews, 71 FR 43443 (August 1, 2006).

The Department received a Notice of Intent to Participate from Corus Staal BV on August 8, 2006. Corus Staal BV claimed interested party status as a foreign producer, under Section 771(9)(A) of the Tariff Act of 1930, as amended (“the Act”), 19 U.S.C. 1677(9)(A), and 19 CFR 351.102(b). The following domestic interested parties each submitted a Notice of Intent to Participate, all within the deadline specified in section 351.218(d)(1)(i) of the Department's regulations, identifying themselves as interested parties under 771(9)(c) of the Act: Nucor Corporation (August 10, 2006); Gallatin Steel, IPSCO Steel, Inc., and Steel Dynamics, Inc. (August 15, 2006); Mittal Steel USA (August 16, 2006); United Steel, Paper and Forestry, Rubber, Manufacturing, Energy, Allied Industrial and Service Workers International Union, AFL-CIO-CLC (August 16, 2006); and United States Steel Corporation (August 16, 2006).

The Department received a complete and timely joint substantive response from certain domestic interested parties (United States Steel Corporation, Mittal Steel USA Inc., Nucor Corporation, Gallatin Steel Company, Steel Dynamics Inc., and IPSCO Steel Inc.) (“Domestic Producers”) on August 31, 2006, within the deadline specified under section 351.218(d)(3)(i) of the Department's regulations. The Department also received a complete substantive response from Corus Staal BV on August 31, 2006. On September 8, 2006, the Department received rebuttal comments from United States Steel Corporation and from Corus Staal BV.

On September 20, 2006, the Department determined that Domestic Producers' and Corus Staal BV's August 31, 2006, submissions constituted adequate responses to the notice of initiation, in accordance with sections 351.218(e)(1)(i) and (ii) of the Department's regulations. See Sunset Review of Certain Hot-Rolled Carbon Steel Flat Products from the Netherlands: Adequacy of Domestic and Respondent Interested Party Responses to the Notice of Initiation. As a result, the Department determined, in accordance with section 351.218(e)(2) of its regulations, to conduct a full (240- day) review.

Extension of Time Limits for Preliminary and Final Results of Review

The Act provides for the completion of a full sunset review within 240 days of the publication of the initiation notice. See section 751(c)(5)(A) of the Act. In accordance with section 751(c)(5)(B) of the Act, the Department may extend the period of time for making its determination by not more than 90 days, if it determines that the review is extraordinarily complicated. We determine that this review is extraordinarily complicated, pursuant to sections 751(c)(5)(C) (i) and (ii) of the Act, because there are a large number of issues, some of which are complex. The parties filed comments raising various issues which require additional time for analysis, including the relevance of recent World Trade Organization decisions and the Department's duty absorption analysis in the concurrent administrative review.

The Department's preliminary results of the sunset review of the antidumping duty order on certain hot-rolled carbon steel flat products from the Netherlands are currently scheduled for November 19, 2006 and the final results are currently scheduled for March 29, 2007. However, the Department will extend the deadlines in this proceeding for the above-stated reasons. As a result, the Department intends to issue the preliminary results of the full sunset review by February 12, 2007, and the final results of that review by June 22, 2007. These dates are 85 days from the original scheduled dates of the preliminary and final results of the sunset review.

This notice is issued in accordance with sections 751(c)(5)(B) and (C) of the Act.

Dated: November 16, 2006.
Stephen J. Claeys,
Deputy Assistant Secretary for Import Administration.

[FR Doc. E6-19896 Filed 11-22-06; 8:45 am]

BILLING CODE 3510-DS-P